DEPARTMENT OF THE INTERIOR

National Park Service

[NPS-WASO-NAGPRA-NPS0039488; PPWOCRADN0-PCU00RP14.R50000]

Notice of Intended Disposition: U.S. Department of Agriculture, Forest Service, Gila National Forest, Silver City, NM

AGENCY: National Park Service, Interior.

ACTION: Notice.

SUMMARY: In accordance with the Native American Graves Protection and Repatriation Act (NAGPRA), the U.S. Department of Agriculture, Forest Service, Gila National Forest (GNF) intends to carry out the disposition of human remains and associated funerary objects removed from Federal or Tribal lands to the lineal descendants, Indian Tribe, or Native Hawaiian organization with priority for disposition in this notice.

DATES: Disposition of the human remains and associated funerary objects in this notice may occur on or after April 17, 2025. If no claim for disposition is received by March 18, 2026, the human remains and associated funerary objects in this notice will become unclaimed human remains and associated funerary objects.

ADDRESSES: Camille Howes, GNF Forest Supervisor, 3005 Camino del Bosque, Silver City, NM 88061, telephone (575) 937-4878, email Camille.Howes@usda.gov.

SUPPLEMENTARY INFORMATION: This notice is published as part of the National Park Service's administrative responsibilities under NAGPRA. The determinations in this notice are the sole responsibility of the GNF, and additional information on the human remains and associated funerary objects in this notice, including the results of consultation, can be found in the related records. The National Park Service is not responsible for the identifications in this notice.

Abstract of Information Available

Based on the information available, human remains representing, at least, one individual have been reasonably identified. The seven associated funerary objects are one San Francisco Redware, three Alma Plain Wares, two Corrugated wares, and one Black-on-White ware ceramic sherds. AR-03-06-04-01032 is a rock shelter with pueblo occupation located within the GNF, Glenwood Ranger District, within Grant County, New Mexico. June 2015, animal burrowing within and outside of the rock shelter uncovered human remains, which were then unknowingly taken home by recreationalists. Upon further review, the bones were recognized as human, resulting in field investigations by New Mexico State Police (NMSP) and the Office of the Medical Investigator (OMI). Once the OMI field deputy identified the archaeological site, everything collected was turned over to GNF archaeologists.

Based on the information available, human remains representing, at least, one individual have been reasonably identified. No associated funerary objects are present. AR-03-06-05-00022 is a Classic Mimbres site located within the GNF, Wilderness Ranger District, within Catron County, New Mexico. The site is the location of an on-going authorized excavation, with a developed Plan of Action (and research design) that started in 2015 and continues thru 2025. All human remains are to be left in-situ during the excavations. Highly fragmented human remains were identified in several faunal bags on February 27, 2017. This individual was recovered during the June 10-July 1, 2015 excavations.

Based on the information available, human remains representing, at least, 69 individuals have been reasonably identified. The 11 lots of associated funerary objects (representing approximately 121 associated funerary objects) are one lot of approximately 29 complete ceramic vessels, one lot of approximately seven bags of ceramic sherds, one lot of approximately seven bags of lithics, one lot of approximately four ground stone, one lot of approximately three bags of quartz crystals, one lot of approximately one bag of ochre, one lot of approximately 10 bags of faunal material, one lot of approximately three bags of beads, one lot of approximately two clay/stone balls, one lot of approximately one bag of shell, and one lot of approximately one pendant. AR-03-06-05-00538 is a Classic Mimbres site located within the GNF, Wilderness Ranger District, within Grant County, New Mexico. The site was the location of an authorized excavation, with a developed Plan of Action (and research design) that started in 2015 and ended in 2018.

Based on the information available, human remains representing, at least, seven individuals have been reasonably identified. The 70 associated funerary objects are five complete ceramic vessels, one obsidian flake, two quartz crystals, one turquoise fragment, one pyrite, and 60 reeds. AR-03-06-05-01024 is a Classic Mimbres site located within the GNF, Wilderness Ranger District, within Catron County, New Mexico. The site was the location of an authorized excavation, with a developed Plan of Action (and research design) that started in 2016 and ended in 2017. The associated funerary objects were specifically associated with two of the seven individuals.

Based on the information available, human remains representing, at least, one individuals have been reasonably identified. The 28 associated funerary objects are 11 Alma Plain Wares, six Corrugated Wares, and one Red-on-White Ware sherds; eight rhyolite, one obsidian, and one chert flakes. AR-03-06-07-01819 is a Late Archaic Period (BC 780-A.D. 450) and Pithouse/Puebloan Periods (A.D. ~200-1150) site with two potential pithouse features and a large artifact scatter located within the GNF, Silver City Ranger District, within Grant County, New Mexico. On December 7, 2020, human remains, were found by two hikers. Local and GNF law enforcement visited the remains December 8, 2020, determining they did not belong to a recent crime scene, collecting those on ground surface and delivering them to the GNF Forest Archaeologist. On December 9, 2020, GNF archeologists visited the site and performed an assessment. There was evidence of recent looting; however, some of the human remains had been exposed far longer than the looting event based on weathering and soil discoloration of the bone. The archeologists recovered several more bone fragments and artifacts within the disturbed soil. The remainder of the human remains appeared to be in place. The in-situ remains were stabilized and covered with soil, rocks, and loose vegetation to disguise the disturbance.

Determinations

The GNF has determined that:

• The human remains described in this notice represent the physical remains of 79 individuals of Native American ancestry.

• The 116 objects described in this notice are reasonably believed to have been placed intentionally with or near individual human remains at the time of death or later as part of the death rite or ceremony.

• The Hopi Tribe of Arizona; Pueblo of Acoma, New Mexico; and the Zuni Tribe of the Zuni Reservation, New Mexico have priority for disposition of the human remains and associated funerary objects described in this notice.

Claims for Disposition

Written claims for disposition of the human remains and associated funerary objects in this notice must be sent to the appropriate official identified in this notice under ADDRESSES. If no claim for disposition is received by March 18, 2026, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after April 17, 2025. If competing claims for disposition are received, the GNF must determine the most appropriate claimant prior to disposition. Requests for joint disposition of the human remains and associated funerary objects are considered a single request and not competing requests. The GNF is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: February 4, 2025.
Melanie O'Brien,
Manager, National NAGPRA Program.

[FR Doc. 2025-04376 Filed 3-17-25; 8:45 am]

BILLING CODE 4312-52-P